INTERNATIONAL TRADE COMMISSION

[Investigation No. 332-486]

Probable Economic Effect of Providing Duty-Free, Quota-Free Treatment for Imports From Least-Developed Countries

AGENCY: United States International Trade Commission.

ACTION: Institution of investigation.

SUMMARY: Following receipt of a request on February 16, 2007, from the United States Trade Representative (USTR), the U.S. International Trade Commission (Commission) instituted investigation No. 332-486, Probable Economic Effect of Providing Duty-Free, Quota-Free Treatment for Imports from Least-Developed Countries, under section 332(g) of the Tariff Act of 1930 (19 U.S.C. 1332(g)), for the purpose of providing advice on the probable economic effect of providing duty-free, quota-free treatment (DFQF) for imports from least-developed countries (LDCs) on (i) Industries in the United States producing like or directly competitive products and (ii) on U.S. consumers.

DATES:

March 12, 2007: Institution of investigation.

April 3, 2007: Deadline for filing written submissions.

August 16, 2007: Transmittal of Commission report to USTR.

ADDRESSES: All Commission offices, including the Commission's hearing rooms, are located in the U.S. International Trade Commission Building, 500 E Street, SW., Washington, DC. All written submissions should be addressed to the Secretary, U.S. International Trade Commission, 500 E Street, SW., Washington, DC 20436. The public record for this investigation may be viewed on the Commission's electronic docket (EDIS) at http://edis.usitc.gov.

FOR FURTHER INFORMATION CONTACT: Project Leader Karl Tsuji, Office of Industries (202-205-3434; karl.tsuji@usitc.gov) or Deputy Project Leader Linda White, Office of Industries (202-205-3427; linda.white@usitc.gov). For information on legal aspects, contact William Gearhart of the Office of the General Counsel (202-205-3091; william.gearhart@usitc.gov). The media should contact Margaret O'Laughlin, Office of External Relations (202-205-1819; margaret.olaughlin@usitc.gov). General information concerning the Commission may also be obtained by accessing its Internet server (http://www.usitc.gov). Hearing-impaired individuals may obtain information on this matter by contacting the Commission's TDD terminal on 202-205-1810. Persons with mobility impairments who will need special assistance in gaining access to the Commission should contact the Office of the Secretary at 202-205-2000.

SUPPLEMENTARY INFORMATION: The USTR's letter states that the United States reached agreement at the WTO Ministerial Conference in Hong Kong in December 2005 to provide DFQF market access to products from the LDCs (as defined by the United Nations), as outlined in the decision on proposal 36 in Annex F of the Hong Kong Ministerial Declaration. The letter states that the United States has announced that it will implement this initiative together with the results of the overall negotiations under the Doha Development Agenda.

In providing its advice, the USTR asked that the Commission consider each article in Chapters 1 through 97 of the Harmonized Tariff Schedule of the United States (HTS) for which U.S. tariffs or quotas will remain after the United States fully implements its Uruguay Round tariff commitments, taking into account preferential tariff treatment currently being provided to LDCs under the Generalized System of Preferences, the African Growth and Opportunity Act, and Caribbean Basin Initiative programs. The USTR asked that the advice be based on the 2002 HTS nomenclature, and trade and tariff rate data for the year 2006. The USTR requested that the advice be provided at the 8-digit HTS level, or the lowest level of aggregation feasible.

As requested, the Commission will transmit its advice to the USTR by August 16, 2007. The USTR indicated that the sections of the Commission's report that analyze the probable economic effects and other information that would reveal any aspect of the Commission's economic effect advice, should be classified as confidential national security information.

Written Submissions: No public hearing is planned. However, interested parties are invited to submit written statements concerning the matters to be addressed by the Commission in its report on this investigation. Submissions should be addressed to the Secretary to the Commission. To be assured of consideration by the Commission, written statements related to the investigation should be submitted to the Commission at the earliest practical date but no later than 5:15 p.m. on April 3, 2007. All written submissions must conform with § 201.8 of the Commission's Rules of Practice and Procedure (19 CFR 201.8). Section 201.8 of the rules requires that a signed original (or copy designated as an original) and fourteen (14) copies of each document be filed. In the event that confidential treatment of the document is requested, at least four (4) additional copies must be filed, in which the confidential business information must be deleted (see the following paragraph for further information regarding confidential business information). The Commission's rules do not authorize the filing of submissions with the Secretary by facsimile or electronic means, except to the extent permitted by section 201.8 of the rules (see Handbook for Electronic Filing Procedures, http://www.usitc.gov/secretary/fed_reg_notices/rules/documents/handbook_on_electronic_filing.pdf). Persons with questions regarding electronic filing should contact the Secretary (202-205-2000 or edis@usitc.gov).

Any submissions that contain confidential business information must also conform with the requirements of § 201.6 of the Commission's Rules of Practice and Procedure (19 CFR 201.6). Section 201.6 of the rules requires that the cover of the document and the individual pages be clearly marked as to whether they are the “confidential” or “nonconfidential” version, and that the confidential business information be clearly identified by means of brackets.

All written submissions, except for confidential business information, will be made available in the Office of the Secretary to the Commission for inspection by interested parties. The Commission may include some or all of the confidential business information submitted in the course of this investigation in the report it sends to the USTR. The Commission does not intend to issue a public version of its report at this time. Should the Commission issue a public version at a later time, it will not publish confidential business information in a manner that would reveal the operations of the firm supplying the information.

By order of the Commission.
Issued: March 14, 2007.
Marilyn R. Abbott,
Secretary to the Commission.

[FR Doc. E7-5042 Filed 3-19-07; 8:45 am]

BILLING CODE 7020-02-P